DEPARTMENT OF AGRICULTURE

Agricultural Marketing Service

7 CFR Part 54

[Docket Number LS-99-21]

Request for Public Comments on the Official Grading of Imported Beef, Lamb, Veal and Calf Carcasses Under the Authority of the Agricultural Marketing Act of 1946

AGENCY: Agricultural Marketing Service, USDA.

ACTION: Advance notice of proposed rulemaking.

SUMMARY: The Agricultural Marketing Service (AMS) invites comments from producers, importers, packers, processors, commercial users, and other interested persons on the official grading of imported beef, lamb, veal and calf carcasses. Written requests by producer groups to discontinue the grading of imported carcasses are currently under consideration by AMS. AMS Regulations promulgated under the Agricultural Marketing Act of 1946 permits the official grading of imported beef, lamb, veal and calf carcasses provided the carcasses are in compliance with all requirements of the applicable standards and are marked with the country of origin. However, the regulations do not require the retention of country of origin designations on the component meat cuts to the point of final purchase. In light of the producer proposals, AMS is considering several options. Among the options under consideration are: first, discontinue the official grading of imported carcasses; second, revise the grading regulations to require that the country of origin mark is retained on the component cuts after fabrication of an imported carcass that is federally graded; or, third, revise the grading regulations to eliminate the requirement that a country of origin mark be applied to imported carcasses. AMS requests that interested parties comment on these options and/or provide other options and information for consideration.

DATES: Comments must be received on or before April 3, 2000.

ADDRESSES: Send written comments to Larry R. Meadows, Chief; USDA, AMS, LS, MGC; STOP 0248, Room 2628-S; 1400 Independence Avenue, SW.; Washington, DC 20250-0248. Comments may be faxed to (202) 690-4119 or E-mailed to Larry.Meadows@usda.gov.

State that your comments refer to Docket No. LS-99-21, and note the date and page number of this issue of the Federal Register.

Comments received may be inspected at the above location between 8:00 a.m. and 4:30 p.m., Eastern Time, Monday through Friday, except Holidays.

FOR FURTHER INFORMATION CONTACT: Larry R. Meadows, Chief, Meat Grading and Certification (MGC) Branch, 202-720-1246.

SUPPLEMENTARY INFORMATION: In June 1999, the National Cattlemen's Beef Association (NCBA) requested that the Department of Agriculture (USDA) discontinue the official grading of imported beef carcasses. In October 1999, the American Sheep Industry Association (ASI) requested that USDA discontinue the official grading of imported lamb carcasses. By contrast, during the same timeframe, USDA received letters of support for the continued grading of imported carcasses from members of Congress, the American Meat Institute (AMI), the National Meat Association (NMA), and the Canadian Embassy.

Grading activities for all species are conducted under the authority of the Agricultural Marketing Act of 1946 (7 U.S.C. 1621-1627), as amended, and the regulations set forth in Title 7, Part 54—Meats, Prepared Meats, and Meat Products. Under current regulations and procedures, imported beef, lamb, veal and calf carcasses are eligible for grading provided the carcasses are in compliance with all requirements of the applicable standards and are marked with the country of origin. Except for requiring that imported carcasses be branded with the country of origin prior to official grading, imported carcasses receive the same considerations and treatment as carcasses derived from livestock produced in the United States. However, the regulations do not specify that the country of origin must remain on the cuts after processing. Since the vast majority of beef and lamb is marketed as closely trimmed wholesale or retail cuts rather than carcasses, the country of origin marks are almost always removed during processing. The grading of imported carcasses has been permitted by the regulations since the early 1950's.

For calendar year 1999, slightly more than 50,000 imported beef carcasses and 81,000 imported lamb carcasses were officially graded in the United States. No imported veal and calf carcasses were graded. By contrast, in the same calendar year USDA graded over 27 million domestically produced beef carcasses and 3 million lamb carcasses.

AMS is considering the following options: (1) Discontinue the official grading of all imported beef, lamb, veal and calf carcasses, (2) Revise the grading regulations to require that the country of origin mark be retained on the component cuts after fabrication of an imported carcass that is Federally graded, or, (3) Revise the grading regulations to eliminate the requirement that a country of origin mark be applied to Federally graded imported carcasses.

Accordingly, AMS is issuing this advance notice of proposed rulemaking to assist in the development of policy and regulations for the official grading of imported beef, lamb, veal and calf carcasses. AMS is seeking comments, information, and data from all interested parties.

Specifically, AMS is Seeking

(1) Comments on the options currently under consideration by the Agency;

(2) Other options the Agency should consider;

(3) Suggestions of criteria to be used by AMS to develop a new or revised policy; and

(4) Any other comments, information, or data which would aid AMS in evaluating its current policy and deciding whether to develop a new or revised policy on the official grading of imported carcasses.

Authority: 7 U.S.C. 1621-1627.

Dated: January 27, 2000.
Barry L. Carpenter,
Deputy Administrator, Livestock and Seed Program.

[FR Doc. 00-2112 Filed 1-27-00; 2:58 pm]

BILLING CODE 3410-02-P